DEPARTMENT OF AGRICULTURE

Farm Service Agency

[Docket ID: FSA-2024-0010]

Information Collection Request; 2017 Wildfires and Hurricanes Indemnity Program (WHIP) and Quality Loss Adjustment (QLA) Program

AGENCY: Farm Service Agency, USDA.

ACTION: Notice; request for comments.

SUMMARY: In accordance with the Paperwork Reduction Act requirement, the Farm Service Agency (FSA) is requesting comments from all interested individuals and organizations on an extension of a currently approved information collection to continue WHIP and the QLA Program. FSA provides payments to eligible producers who suffered eligible crop, tree, bush, and vine losses resulting from a qualifying disaster event. FSA also administers the QLA Program to provide financial assistance to eligible producers who experienced a crop quality loss due to a qualifying disaster event in calendar years 2018 or 2019. The application periods for WHIP and the QLA Program have ended; however, the collection is continuing for additional information that may be needed to verify compliance with program eligibility requirements.

DATES: We will consider comments that we receive by January 21, 2025.

ADDRESSES: We invite you to submit comments on this notice. You may submit comments by this method: Federal eRulemaking Portal: Go to: www.regulations.gov and search for Docket ID FSA-2024-0010. Follow the online instructions for submitting comments.

You may also send comments to the Desk Officer for Agriculture, Office of Information and Regulatory Affairs, Office of Management and Budget, Washington, DC 20503. Copies of the information collection may be requested by contacting Kathy Sayers.

FOR FURTHER INFORMATION CONTACT: For specific questions related to collection activity, contact Kathy Sayers; (202) 720-6870; email: Kathy.Sayers@usda.gov. Individuals who require alternative means of communication for program information should contact the USDA Target Center at (202) 720-2600 (voice) or dial 711 for Telecommunications Relay Service (both voice and text telephone users can initiate this call from any telephone).

SUPPLEMENTARY INFORMATION:

Background

FSA is announcing plans to extend the information collection approval of a currently approved information collection that supports WHIP and the QLA Program. FSA provides payments to eligible producers who suffered eligible crop, tree, bush, and vine losses resulting from a qualifying disaster event that occurred in the 2017 calendar year under WHIP, which was authorized by Bipartisan Budget Act of 2018 (BBA) (Pub. L. 115-123).

FSA also administers the QLA Program to provide financial assistance to eligible producers who experienced a crop quality loss due to a qualifying disaster event in calendar years 2018 or 2019, which was authorized by the Additional Supplemental Appropriations for Disaster Relief Act, 2019 (Pub. L. 116-20), as amended by the Further Consolidated Appropriations Act, 2020 (Pub. L. 116-94).

Extension

Title: 2017 WHIP and Block Grant to Florida and Quality Loss Adjustment (QLA) Program.

OMB Control Number: 0560-0291.

Type of Request: Extension.

OMB Expiration Date: June 30, 2025.

Abstract: This information collection is required to support the regulation in 7 CFR part 760, subpart O, for 2017 WHIP requirements for eligible producers who suffered eligible crop, tree, bush, and vine losses resulting from a qualifying disaster event. The information collection is necessary to evaluate the application and other required paperwork for determining the producer's eligibility and the producer's payment calculations. FSA also granted funds to Florida to provide the payments to eligible citrus crop growers; the Florida grantee used the same FSA application for the growers. FSA also administers the QLA Program to provide financial assistance to crop producers who experienced a crop quality loss due to a qualifying disaster event in calendar years 2018 or 2019. The application period for WHIP and the QLA Program has ended; however, the collection is continuing for additional information that may be needed to verify compliance with program eligibility requirements, such as the requirement to purchase crop insurance or Noninsured Crop Disaster Assistance Program coverage for the next two available crop years.

For the following estimated total annual burden on respondents, the formula used to calculate the total burden hour is the estimated average time per response multiplied by the estimated total annual responses.

Estimate of Respondent Burden: Public reporting burden for this information collection is estimated to average 0.6983 hours per response, including the time for reviewing instructions, searching existing data sources, gathering and maintaining the data needed and completing and reviewing the collections of information.

Type of Respondents: Producers or farmers.

Estimated Annual Number of Respondents: 236,100.

Estimated Number of Reponses per Respondent: 1.

Estimated Total Annual Responses: 236,100.

Estimated Average Time per Response: 0.78 hours.

Estimated Annual Burden on Respondents (WHIP applicants): 183,454.

Estimated Annual Burden on Respondents (Florida Grant): 1,097.

Estimated Total Annual Burden on Respondents: 184,551.

We are requesting comments on all aspects of this information collection to help us to:

(1) Evaluate whether the collection of information is necessary for the proper performance of the functions of the FSA, including whether the information will have practical utility;

(2) Evaluate the accuracy of the FSA's estimate of burden including the validity of the methodology and assumptions used;

(3) Enhance the quality, utility, and clarity of the information to be collected; or

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

William Marlow,
Acting Administrator, Farm Service Agency.

[FR Doc. 2024-26960 Filed 11-18-24; 8:45 am]

BILLING CODE 3411-E2-P